DEPARTMENT OF HOMELAND SECURITY

Coast Guard

33 CFR Part 117

[Docket No. USCG-2012-0932]

Drawbridge Operation Regulations; Atlantic Intracoastal Waterway (AIWW), Wrightsville Beach, NC

AGENCY: Coast Guard, DHS.

ACTION: Notice of deviation from drawbridge regulation.

SUMMARY: The Coast Guard has issued a temporary deviation from the operating schedule that governs the S.R. 74 Bridge across the Atlantic Intracoastal Waterway, mile 283.1, at Wrightsville Beach, NC. The deviation is necessary to facilitate the structural repair of the bridge. This deviation allows the bridge to be closed to navigation for 12 hours each day beginning in the evening.

DATES: This deviation is effective from 7 p.m. on October 22, 2012, until 7 a.m. on March 15, 2013.

ADDRESSES: Documents mentioned in this preamble as being available in the docket USCG-2012-0932 and are available online by going to http://www.regulations.gov, inserting USCG-2012-0932 in the “Search” box, and then clicking “Search”. This material is also available for inspection or copying the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this temporary deviation from regulations, call or email Mr. Bill H. Brazier, Bridge Management Specialist, Fifth Coast Guard District, telephone (757) 398-6422, email Bill.H.Brazier@uscg.mil. If you have questions on reviewing the docket, call Renee V. Wright, Program Manager, Docket Operations, (202) 366-9826.

SUPPLEMENTARY INFORMATION: The North Carolina Department of Transportation, who owns and operates this bascule lift bridge, has requested a temporary deviation from the current operating regulations set out in 33 CFR 117.821 (a)(4), to facilitate the structural repair of the bridge.

In the closed position to vessels, the S.R. 74 Bridge, at Atlantic Intracoastal Waterway (AIWW) mile 283.1, at Wrightsville Beach, NC has a vertical clearance of 20 feet, above mean high water.

Under this temporary deviation, from October 22, 2012, through March 15, 2013, the S.R. 74 Bridge will be closed to navigation each day, from 7 p.m. to 7 a.m., except vessel openings will be provided with a 2-hour advance notice to the bridge tender.

Vessel traffic along this part of the AIWW consists of commercial and pleasure craft including sail boats, fishing boats, and tug and barge traffic, that transit mainly during the daylight hours with the occasional tug and barge traffic at night. There are no alternate routes for vessels transiting this section of the AIWW. Vessels that can pass under the bridge without a drawbridge opening may do so at all times and the bridge will be able to open in an emergency.

The Coast Guard has carefully coordinated the restrictions with commercial and recreational waterway users. The Coast Guard will inform all users of the waterway through our Local and Broadcast Notice to Mariners of the closure periods for the bridge so that vessels can arrange their transits to minimize any impacts caused by the temporary deviation.

In accordance with 33 CFR 117.35(e), the draw must return to its original operating schedule immediately at the end of the effective period of this deviation. This deviation from the operating regulations is authorized under 33 CFR 117.35.

Dated: October 10, 2012.
Waverly W. Gregory, Jr.,
Bridge Program Manager, Fifth Coast Guard District.

[FR Doc. 2012-25977 Filed 10-19-12; 8:45 am]

BILLING CODE 9110-04-P